ENVIRONMENTAL PROTECTION AGENCY

[EPA-HQ-OAR-2010-0410; FRL-9171-9]

Agency Information Collection Activities; Proposed Collection; Comment Request; Nomination Application for the U.S. EPA Montreal Protocol Awards; EPA ICR No. 2389.01, OMB Control No. 2060-NEW

AGENCY: Environmental Protection Agency.

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before September 7, 2010.

ADDRESSES: Submit your comments, identified by Docket ID No. EPA-HQ-OAR-2010-0410 by one of the following methods:

• E-mail: a-and-r-Docket@epa.gov.

• Fax: 202-566-1741.

• Mail: Docket EPA-HQ-OAR-2010-0410, Air and Radiation Docket and Information Center, U.S. Environmental Protection Agency, Mail code: 6102T, 1200 Pennsylvania Ave., NW., Washington, DC 20460.

• Hand Delivery: Docket EPA-HQ-OAR-2010-0410, Air and Radiation Docket at EPA West, 1301 Constitution Avenue, NW., Room B108, Mail Code 6102T, Washington, DC 20460. Such deliveries are only accepted during the Docket's normal hours of operation.

Instructions: Direct your comments to Docket ID No. EPA-HQ-OAR-2010-0410. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment, and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: For further information about this proposed rule, contact Jeremy Arling by telephone at (202) 343-9055, or by e-mail at arling.jeremy@epa.gov or by mail at U.S. Environmental Protection Agency, Stratospheric Protection Division, Stratospheric Program Implementation Branch (6205J), 1200 Pennsylvania Avenue, NW., Washington, DC 20460. You may also visit the U.S. EPA Montreal Protocol Awards section of the Ozone Depletion Web site at http://www.epa.gov/ozone/awards for further information about the awards program that is the subject of this ICR.

SUPPLEMENTARY INFORMATION:

How can I access the docket and/or submit comments?

EPA has established a public docket for this ICR under Docket ID No. EPA-HQ-OAR-2010-0410, which is available for online viewing at 0 or in person viewing at the Air and Radiation Docket in the EPA Docket Center (EPA/DC), EPA West, Room B108, 1301 Constitution Ave., NW., Washington, DC. The EPA/DC Public Reading Room is open from 8:30 a.m. to 4:30 p.m., Monday through Friday, excluding legal holidays. The telephone number for the Reading Room is 202-566-1744, and the telephone number for the Air and Radiation Docket is (202) 566-1742.

Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c)(2)(A) of the PRA, EPA specifically solicits comments and information to enable it to:

(i) Evaluate whether the proposed collection of information is necessary for the proper performance of the functions of the Agency, including whether the information will have practical utility;

(ii) evaluate the accuracy of the Agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses. In particular, EPA is requesting comments from very small businesses (those that employ fewer than 25 people) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected Entities: Entities potentially affected by this action include those working in public administration; chemical manufacturing; professional, scientific and technical services; voluntary health organizations; environment, conservation and wildlife organizations; business associations; and professional organizations.

Title: Nomination Application for the U.S. EPA Montreal Protocol Awards

ICR Numbers: EPA ICR No. 2389.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The U.S. Environmental Protection Agency (EPA) Stratospheric Protection Division established the U.S. EPA Montreal Protocol Award (USMPA) program in 1990 to recognize outstanding contributions to the protection of the Earth's stratospheric ozone layer. It is named after the international treaty that aims to reverse erosion of the ozone layer by replacing and/or phasing out the production of ozone-depleting substances (ODS). Since 1990, EPA has presented more than 500 awards to outstanding individuals, teams, companies, organizations, and government institutions in 54 countries. Awards are particularly prestigious because nominees compete globally against the accomplishments of many other potential awardees, and recipients are selected by previous awardees and EPA.

Participation in the program is voluntary, and EPA expects that respondents will participate only if the benefits of participation outweigh the information collection burden. This information collection request requires applicants (called nominees or nominators) to complete a nomination form that details the project or activity they believe is worthy of the USMPA award. EPA seeks nominations for the following accomplishments: Originality and public purpose; leadership and corporate responsibility; global perspective and implication; actual elimination of ozone-depleting substance emissions; success in eliminating substances that deplete the ozone layer and contribute to climate change or in transitioning to alternatives with reduced environmental impact; or leadership in improving awareness of the harmful health effects of overexposure to ultraviolet radiation.

The Stratospheric Protection Division of EPA uses the collected information to evaluate award nominations, in conjunction with past awardees, and to choose USMPA program award recipients. The submitted information is edited by EPA and then included in the award ceremony program and posted to EPA's USMPA Web site. EPA hosts an annual awards ceremony where the award recipients are honored.

No information collected by EPA for the USMPA program comprises confidential business information. Nor is any information collected considered to be of a sensitive nature.

Burden Statement: The annual public reporting and recordkeeping burden for this collection of information is estimated to average 2.5 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Respondents/affected entities: US EPA Montreal Protocol Award nominees can be individuals, organizations, government, public- or private-sector, and domestic or international, as can the entities that nominate the nominees. The following is a list of industries that may be affected by information collection requirements covered under this ICR (followed by their NAICS codes), based on a review of the pool of past award nominees: Public administration (92); chemical manufacturing (325); professional, scientific and technical services (541); voluntary health organizations (813212); environment, conservation and wildlife organizations (813312); business associations (813910); professional organizations (813920). This list is intended to be illustrative; entities from other industries may elect to apply to the U.S. EPA Montreal Protocol Awards program, or nominate potential awardees.

Estimated total number of potential respondents, annually: 25.

Frequency of response: Annual.

Estimated total average number of responses for each respondent: 1.

Estimated total annual burden hours: 62.5. This burden estimate includes time required to read the nomination instructions; provide contact information for the nominee/nominator; contact references to obtain their consent to include their names and contact information on the nomination form; write a summary of accomplishments in no more than 600 words; create supporting materials (this is optional); write a cover letter; submit the nomination via mail, electronic mail or fax; and, review subsequent nominations for merit.

Estimated total annual costs: $2,080. This cost estimate is associated with all the activities listed under estimated total annual burden hours, above.

What is the next step in the process for this ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: June 29, 2010.
Drusilla Hufford,
Director, Stratospheric Protection Division.

[FR Doc. 2010-16487 Filed 7-6-10; 8:45 am]

BILLING CODE 6560-50-P